DEPARTMENT OF ENERGY

Federal Energy Regulatory Commission

[Docket No. RP04-386-000]

Northwest Pipeline Corporation; Notice of Technical Conference

August 9, 2004.

In an order issued July 30, 2004,¹ the Commission directed staff to convene a technical conference to discuss numerous issues raised by Northwest Pipeline Corporation's filing, including the appropriateness of pipeline capacity reductions, the structure and eligibility criteria for open seasons contemplated by the tariff changes (“reverse” open seasons), the exit fee, including how the fee is derived and why it must be paid as a lump sum. Other issues were raised by protestors/intervenors as well.

¹ Northwest Pipeline Company, 108 FERC ¶ 61,103 (2004).

Take notice that a technical conference will be held on Tuesday August 24, 2004, at 10 a.m. e.s.t.), in a room to be designated at the offices of the Federal Energy Regulatory Commission, 888 First Street, NE., Washington DC 20426.

All interested parties and staff are permitted to attend. For further information please contact: Harris Wood at (202) 502-8224.

Magalie R. Salas,
Secretary.

[FR Doc. E4-1817 Filed 8-12-04; 8:45 am]

BILLING CODE 6717-01-P